DEPARTMENT OF ENERGY

Federal Energy Regulatory Commission

[Project No. 201-014 AK]

Petersburg Municipal Power and Light; Notice of Availability of Environmental Assessment

April 25, 2003.

In accordance with the National Environmental Policy Act of 1969 and the Federal Energy Regulatory Commission's (Commission) regulations, 18 CFR part 380 (Order No. 486, 52 FR 47897), Office of Energy Projects staff has reviewed the application for a new license for the Blind Slough Hydroelectric Project, an existing, operating facility located on Crystal Creek, near the City of Petersburg, Alaska. In the environmental assessment (EA), the staff has analyzed the potential environmental impacts of the existing project and has concluded that approval of the project, with appropriate environmental protection measures, would not constitute a major Federal action significantly affecting the quality of the human environment.

Copies of the EA can be viewed at the Commission in the Public Reference Room or may be viewed on the Commission's Web site at http://www.ferc.gov using the “FERRIS” link. Enter the docket number excluding the last three digits in the docket number field to access the document. To be notified via email of new filings and issuances related to this or other pending projects, register online at http://www.ferc.gov/esubscribenow.htm. For assistance, contact FERC Online Support at FERCOnlineSupport@ferc.gov or toll-free at 1-866-208-3676, or for TTY, (202) 502-8659.

Magalie R. Salas,
Secretary.

[FR Doc. 03-10768 Filed 4-30-03; 8:45 am]

BILLING CODE 6717-01-P